DEPARTMENT OF COMMERCE

International Trade Administration

[A-588-804]

Ball Bearings and Parts Thereof From Japan: Amended Rescission of Antidumping Duty Administrative Review, in Part; 2010-2011

AGENCY: Enforcement and Compliance, International Trade Administration, Department of Commerce.

SUMMARY: The Department of Commerce (the Department) is amending its rescission in part for the administrative review of the antidumping duty order on ball bearings and parts thereof (ball bearings) from Japan for the period May 1, 2010, through April 30, 2011.

DATES: Effective Date: June 6, 2014.

FOR FURTHER INFORMATION CONTACT: Sandra Dreisonstok or Minoo Hatten, AD/CVD Operations, Office I, Enforcement and Compliance, International Trade Administration, U.S. Department of Commerce, 14th Street and Constitution Avenue NW., Washington, DC 20230; telephone: (202) 482-0768 and (202) 482-1690 respectively.

SUPPLEMENTARY INFORMATION:

Background

On May 8, 2014, in accordance with 19 CFR 351.213(d)(1), we published a notice of rescission in part with respect to the antidumping duty order on ball bearings from Japan for the period May 1, 2010, through April 30, 2011.¹

¹ See Ball Bearings and Parts Thereof From Japan: Rescission of Antidumping Duty Administrative Review, in Part; 2010-2011, 79 FR 26405 (May 8, 2014) (Rescission Notice).

Amended Rescission of Review in Part

In our Rescission Notice we stated, “the Department intends to issue appropriate assessment instructions to U.S. Customs and Border Protection 15 days after publication of this notice.” In light of our Timken Notice,² we are amending the Rescission Notice by striking this sentence.

² See Ball Bearings and Parts Thereof from Japan and the United Kingdom: Notice of Court Decision Not in Harmony With Continuation of Antidumping Duty Orders, 76 FR 35401 (June 17, 2011) (Timken Notice).

Dated: May 30, 2014.
Christian Marsh,
Deputy Assistant Secretary for Antidumping and Countervailing Duty Operations.

[FR Doc. 2014-13262 Filed 6-5-14; 8:45 am]

BILLING CODE 3510-DS-P